FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with the Paperwork Reduction Act of 1995 (44 U.S.C. chapter 35), the FDIC hereby gives notice that it plans to submit to the Office of Management and Budget (OMB) a request for OMB review and approval of the following information collection systems described below.

1. Type of review: Renewal of a currently approved collection.

Title: Application for Waiver of Prohibition on Acceptance of Brokered Deposits by Adequately Capitalized Insured Institutions.

OMB Number: 3064-0099.

Frequency of Response: On occasion.

Affected Public: Any insured depository institution seeking a waiver to the prohibition on the acceptance of brokered deposits.

Annual Burden:

Estimated annual number of respondents: 30.

Estimated time per response: 6 hours.

Total annual burden hours: 180 hours.

Expiration Date of OMB Clearance: October 31, 2004.

SUPPLEMENTARY INFORMATION: Section 29 of the Federal Deposit Insurance Act prohibits undercapitalized insured depository institutions from accepting, renewing, or rolling over any brokered deposits. Adequately capitalized institutions may do so with a waiver from the FDIC, while well-capitalized institutions may accept, renew, or roll over brokered deposits without restriction.

2. Type of Review: Renewal of a currently approved collection.

Title: Real Estate Lending Standards.

OMB Number: 3064-0112.

Frequency of Response: On occasion.

Affected Public: Any financial institution engaging in real estate lending.

Annual Burden:

Estimated annual number of respondents: 5,300.

Estimated time per response: 20 hours.

Total annual burden hours: 106,000.

Expiration Date of OMB Clearance: October 31, 2004.

SUPPLEMENTARY INFORMATION: Institutions will use real estate lending policies to guide their lending operations in a manner that is consistent with safe and sound banking practices and appropriate to their size, nature, and scope of their operations. These policies should address certain lending considerations, including loan-to-value limits, loan administration policies, portfolio diversification standards, and documentation, approval and reporting requirements.

3. Type of Review: Renewal of a currently approved collection.

Title: Management Official Interlocks.

OMB Number: 3064-0118.

Frequency of Response: On occasion.

Affected Public: Management officials of insured nonmember banks and their affiliates.

Annual Burden:

Estimated annual number of respondents: 2.

Estimated time per response: 4 hours.

Total annual burden hours: 8 hours.

Expiration Date of OMB Clearance: October 31, 2004.

SUPPLEMENTARY INFORMATION: The collection is associated with the FDIC's Management Official Interlocks regulation, 12 CFR Part 348, which implements the Depository Institution Management Interlocks Act (DIMIA). DIMIA generally prohibits bank management officials from serving simultaneously with two unaffiliated depository institutions or their holding companies but allows the FDIC to grant exemptions in appropriate circumstances.

OMB Reviewer: Joseph F. Lackey, Jr., Office of Management and Budget, Office of Information and Regulatory Affairs, Washington, DC 20503.

FDIC Contact: Leibella A. Unciano, (202) 898-3738, Legal Division, Room MB-3064, Federal Deposit Insurance Corporation, 550 17th Street, NW., Washington, DC 20429.

Comments: Comments on these collections of information are welcome and should be submitted on or before September 13, 2004 to both the OMB reviewer and the FDIC contact listed above.

ADDRESSES: Information about this submission, including copies of the proposed collection of information, may be obtained by calling or writing the FDIC contact listed above.

Dated in Washington, DC, on August 9, 2004.
Federal Deposit Insurance Corporation.
Robert E. Feldman,
Executive Secretary.

[FR Doc. 04-18520 Filed 8-12-04; 8:45 am]

BILLING CODE 6714-01-P